DEPARTMENT OF TRANSPORTATION

Federal Aviation Administration

Notice of Passenger Facility Charge (PFC) Approvals and Disapprovals.

AGENCY: Federal Aviation Administration (FAA), DOT.

ACTION: Monthly Notice of PFC Approvals and Disapprovals. In July 2008, there were three applications approved. This notice also includes information on two applications, approved in June 2008, inadvertently left off the June 2008 notice. Additionally, 20 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: San Diego County Regional Airport Authority, San Diego, California.

Application Number: 08-05-C-00-SAN. APPLICATION TYPE: Impose and use a PFC.

PFC Level: $4.50.

Total PFC Revenue Approved in This Decision: $26,301,763.

Earliest Charge Effective Date: April 1, 2009.

Estimated Charge Expiration Date: October 1, 2009.

Class of Air Carriers Not Required to Collect PFC's: Non-scheduled/on-demand air carriers filing FAA Form 1800-31.

Determination: Approved. Based on information contained in the public agency's application, the FAA has determined that the proposed class accounts for less than 1 percent of the total annual enplanements at San Diego International Airport.

Brief Description of Projects Approved for Collection and Use at a $4.50 PFC Level: Security checkpoint improvements. Airfield improvements. Replace aircraft rescue and firefighting vehicle. Noise mitigation.

Brief Description of Projects Approved for Collection and Use at A $3.00 PFC Level: Terminal area 12 kv electrical upgrade, phase I. Upgrade passenger information and paging systems. Part 150 study update. Conduct terminal planning study.

Decision Date: June 27, 2008.

For Further Information Contact: Darlene Williams, Los Angeles Airports District Office, (310) 725-3625.

Public Agency: City of Savannah and Savannah Airport Commission, Savannah, Georgia.

Application Number: 08-07-C-00-SAV.

Application Type: Impose and use a PFC. PFC LEVEL: $4.50.

Total PFC Revenue Approved in This Decision: $2,558,778.

Earliest Charge Effective Date: March 1, 2013.

Estimated Charge Expiration Date: November 1, 2013.

Class of Air Carriers Not Required to Collect PFC's: Air taxi/commercial operators filing FAA Form 1800-31.00-31.

Determination: Approved. Based on information contained in the public agency's application, the FAA has determined that the proposed class accounts for less than 1 percent of the total annual enplanements at Savannah/Hilton Head International Airport.

Brief Description of Projects Approved for Collection and Use:

Rehabilitation—runway shoulders.

PFC implementation and administration.

Construct taxiway—southwest quadrant.

Taxiway B extension.

Runway 18/36 extension.

Airport master plan.

Cool air system to nine jet bridges.

Taxiway C-2.

Airport layout plan update.

Bio Scrypt 15 boarding bridge doors.

Update main communication 800 Mhz system to digital.

Brief Description of Project Partially Approved for Collection and Use:Navigational aids.

Determination: Partially approved. One component of the proposed project, the installation of localizers on runways 18 and 27 did not meet the requirements of § 158.15(b)(1).

Brief Description of Project Approved for Collection: Relocate airfield maintenance road.

Decision Date: June 27, 2008.

For Further Information Contact: John Marshall, Atlanta Airports District Office, (404) 305-7153.

Public Agency: Birmingham Airport Authority, Birmingham, Alabama.

Application Number: 08-07-C-00-BHM.

Application Type: Impose and use a PFC.

PFC Level: $4.50.

Total PFC Revenue Approved in This Decision: $15,173,639.

Earliest Charge Effective Date: October 1, 2008.

Estimated Charge Expiration Date: March 1, 2010.

Class of Air Carriers Not Required To Collect PFCs: Air taxi/commercial operators filing FAA Form 1800-31.

Determination: Approved. Based on information contained in the public agency's application, the FAA has determined that the proposed class accounts for less than 1 percent of the total annual enplanements at Birmingham International Airport.

Brief Description of Projects Approved for Collection and Use:Acquire noise land. Terminal modernization program—design.

Decision Date: July 2, 2008.

For Further Information Contact: Keafur Grimes, Jackson Airports District Office, (601) 664-9886.

Public Agency: City of Colorado Springs, Colorado.

Application Number: 08-13-C-00-COS.

Application Type: Impose and use a PFC.

PFC Level: $3.00.

Total PFC Revenue Approved in This Decision: $8,307,189.

Earliest Charge Effective Date: December 1, 2010.

Estimated Charge Expiration Date: January 1, 2014.

Class of Air Carriers Not Required to Collect PFCs: None.

Brief Description of Projects Approved for Collection and Use:West aviation development south taxilane. West aviation development south parking area.

Decision Date: July 23, 2008.

For Further Information Contact: Chris Schaffer, Denver Airports District Office, (303) 342-1258.

Public Agency: County of Kalamazoo, Kalamazoo, Michigan.

Application Number: 08-06-C-00-AZO.

Application Type: Impose and use a PFC.

PFC Level: $4.50.

Total PFC Revenue Approved in This Decision: $14,821,076.

Earliest Charge Effective Date: September 1, 2008.

Estimated Charge Expiration Date: September 1, 2024.

Class of Air Carriers Not Required to Collect PFC's: Non-scheduled/on-demand air taxi operators filing FAA Form 1800-31.

Determination: Approved. Based on information contained in the public agency's application, the FAA has determined that the proposed class accounts for less than 1 percent of the total annual enplanements at Kalamazoo-Baffle Creek International Airport.

Brief Description of Project Approved for Collection and Use: Construction of a replacement terminal building.

Decision Date: July 25, 2008.

For Further Information Contact: Irene Porter, Detroit Airports District Office, (734) 229-2915.

Amendments to PFC Approvals
Amendment No., city, state | Amendment approved date | Original approved net PFC revenue | Amended approved net PFC revenue | Original estimated charge exp. date | Amended estimated charge exp. date
95-03-C-04-PNS, Pensacola, FL | 06/20/08 | $1,860,000 | $1,747,888 | 08/01/99 | 08/01/99
92-01-C-05-PNS, Pensacola, FL | 06/24/08 | 8,595,500 | 8,190,719 | 04/01/98 | 04/01/98
92-01-C-06-PNS, Pensacola, FL | 06/24/08 | 8,190,719 | 7,760,275 | 04/01/98 | 04/01/98
95-02-U-01-PNS, Pensacola, FL | 06/24/08 | ⁽¹⁾ | ⁽¹⁾ | 04/01/98 | 04/01/98
92-01-C-07-PNS, Pensacola, FL | 06/24/08 | 7,760,275 | 8,041,242 | 04/01/98 | 04/01/98
95-03-C-03-PNS, Pensacola, FL | 06/24/08 | 1,747,888 | 1,747,888 | 08/01/99 | 08/01/99
02-05-C-01-PNS, Pensacola, FL | 06/24/08 | 350,000 | 182,914 | 09/01/07 | 09/01/07
01-02-C-01-CKB, Bridgeport, WV | 07/02/08 | 182,344 | 101,489 | 08/01/02 | 08/01/02
99-04-C-02-PNS, Pensacola, FL | 07/03/08 | 19,400,000 | 20,161,348 | 09/01/07 | 09/01/07
99-04-C-03-PNS, Pensacola, FL | 07/03/08 | 20,161,348 | 15,303,041 | 09/01/07 | 09/01/07
03-06-U-01-PNS, Pensacola, FL | 07/03/08 | ⁽¹⁾ | ⁽¹⁾ | 09/01/07 | 09/01/07
00-01-C-03-FAY, Fayetteville, NC | 07/03/08 | 571,671 | 569,490 | 10/01/05 | 10/01/05
00-01-C-04-FAY, Fayetteville, NC | 07/03/08 | 569,490 | 398,811 | 10/01/05 | 10/01/05
02-02-U-02-FAY, Fayetteville, NC | 07/03/08 | ⁽¹⁾ | ⁽¹⁾ | 10/01/05 | 10/01/05
03-06-C-02-SLC, Salt Lake City, UT | 07/08/08 | 62,532,179 | 62,670,838 | 09/01/04 | 02/01/05
06-05-C-01-LFT, Lafayette, LA | 07/09/08 | 795,000 | 756,165 | 04/01/08 | 04/01/08
98-03-C-05-DSM, Des Moines, IA | 07/11/08 | 12,882,783 | 7,174,449 | 05/01/04 | 05/01/04
93-01-C-05-CRW, Charleston, WV | 07/17/08 | 2,504,316 | 2,304,154 | 12/01/97 | 12/01/97
02-08-C-03-JAC, Jackson, WY | 07/17/08 | 1,189,579 | 1,189,579 | 01/01/04 | 08/01/04
98-04-C-03-CRW, Charleston, WV | 07/21/08 | 700,795 | 698,992 | 05/01/00 | 05/01/00
¹ Not applicable.

Issued in Washington, DC, on July 31, 2008
Joe Hebert
Manager, Financial Analysis and Passenger Facility Charge Branch

[FR Doc. E8-18134 Filed 8-7-08; 8:45 am]

BILLING CODE 4910-13-M